DEPARTMENT OF JUSTICE

Notice of Lodging of Settlement Under the Clean Air Act

Notice is hereby given that on January 29, 2007, a proposed Stipulation and Order (“the Stipulation”) in In re Westwood Chemical Corp., Docket No. 05-B-35298 (CGM), and Banner v. HSBC Bank, National Association, et al., Adversary Proceeding No. 06-09061 (CGM), was lodged with the United States Bankruptcy Court for the Southern District of New York.

In this action the United States, on behalf of the Environmental Protection Agency (“EPA”), filed an administrative claim for expenses incurred in a CERCLA response action performed at the Debtor Westwood Chemical Corporation's Site, 46 Tower Road, Middletown, New York 10941, in Orange County, where Debtor manufactured chemicals. After EPA's response action concluded, the Bankruptcy Trustee sold the Westwood Site, including all real property, machinery, and equipment, for a cash payment of $3 million. Under the Stipulation, the Trustee will disburse the $3 million in sale proceeds as follows: EPA will receive $1.25 million, in full settlement of its administrative claim; the State of New York will receive $40,000; HSBC Bank will receive $750,000; the Town of Wallkill and County of Orange will collectively receive $275,000; Eleanor Koch will receive $62,500; Rider, Weiner, Frankel & Calhelha, PC, will receive $41,750, with the remainder to be released to the Trustee to pay administrative expenses as authorized by the Court. The Stipulation also provides that, in consideration of the payments made pursuant to the Stipulation, the United States on behalf of EPA covenants not to bring a civil action or take administrative action against the Debtor's estate, the Trustee, and/or HSBC Bank pursuant to Sections 106 and 107 of CERCLA, 42 U.S.C. 9606 and 9607, relating to the Westwood Site. The Stipulation also provides to the Debtor's estate, the Trustee, and/or HSBC Bank protection from contribution actions or claims as provided by CERCLA Section 113(f)(2), 42 U.S.C. 9613(f)(2), for matters addressed in the Stipulation. In addition, the Debtor's Estate, the Trustee, and HSBC Bank covenant not to sue or assert causes of action against the United States with respect to the Westwood Site.

The Department of Justice will receive for a period of thirty (30) days from the date of this publication comments relating to the Stipulation. Comments should be addressed to the Assistant Attorney General, Environment and Natural Resources Division, P.O. Box 7611, U.S. Department of Justice, Washington, DC 20044-7611, and should refer to In re Westwood Chemical Corporation, and/or Banner v. HSBC Bank, National Association, et al., D.J. Ref. 90-11-2-08602.

The Stipulation may be examined at the Office of the United States Attorney, 86 Chambers Street, 3rd Floor, New York, New York 10007, and at U.S. EPA Region II, 290 Broadway, New York, New York 10007. During the public comment period, the Stipulation may also be examined on the following Department of Justice Web site http://www.usdoj.gov/enrd/Consent_Decrees.html. A copy of the Stipulation may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.75 (25 cents per page reproduction cost) payable to the U.S. Treasury or, if by e-mail or fax, forward a check in that amount to the Consent Decree Library at the stated address.

Ronald G. Gluck,
Assistant Chief, Environmental Enforcement Section, Environment and Natural Resources Division.

[FR Doc. 07-542 Filed 2-7-07; 8:45 am]

BILLING CODE 4410-15-M